DEPARTMENT OF COMMERCE

Foreign-Trade Zones Board

[B-28-2015]

Foreign-Trade Zone 82—Mobile, Alabama; Authorization of Production Activity; Outokumpu Stainless USA, LLC (Stainless Steel Products); Calvert, Alabama

On April 21, 2015, the City of Mobile, grantee of FTZ 82, submitted a notification of proposed production activity to the Foreign-Trade Zones (FTZ) Board on behalf of Outokumpu Stainless USA, LLC, within Subzone 82I, in Calvert, Alabama.

The notification was processed in accordance with the regulations of the FTZ Board (15 CFR part 400), including notice in the Federal Register inviting public comment (80 FR 26537-26538, 5-8-2015). The FTZ Board has determined that no further review of the activity is warranted at this time. The production activity described in the notification is authorized, subject to the FTZ Act and the Board's regulations, including Section 400.14, and further subject to a condition that all foreign status ferrosilicon, molybdenum and titanium classified under HTSUS Subheadings 7202.21, 8102.94, 8108.20 and 8108.90 be admitted to the subzone in privileged foreign status (19 CFR 146.41).

Dated: August 19, 2015.
Andrew McGilvray,
Executive Secretary.

[FR Doc. 2015-21049 Filed 8-24-15; 8:45 am]

BILLING CODE 3510-DS-P